UNITED STATES INSTITUTE OF PEACE

Notice of Meeting

Agency: United States Institute of Peace.

Date/Time: Friday, July 20, 2018 (10:00 a.m.-12:15 p.m.)

Location: 2301 Constitution Avenue NW, Washington, DC 20037.

Status: Open Session—Portions may be closed pursuant to Subsection (c) of Section 552(b) of Title 5, United States Code, as provided in subsection 1706(h)(3) of the United States Institute of Peace Act, Public Law 98-525.

Agenda: July 20, 2018 Board Meeting: Chairman's Report; Vice Chairman's Report; President's Report; Approval of Minutes of the One Hundred and Sixty Sixth Meeting (April 20, 2018) of the Board of Directors; North Africa Update, Reports from USIP Board Committees; and Emerging Security Competition in the Red Sea report.

Contact: William B. Taylor, Executive Vice President: wtaylor@usip.org.

Dated: July 5, 2018.
William B. Taylor,
Executive Vice President.

[FR Doc. 2018-14781 Filed 7-10-18; 8:45 am]

BILLING CODE 6820-AR-P